DEPARTMENT OF HEALTH AND HUMAN SERVICES

Centers for Disease Control and Prevention

Advisory Committee on Childhood Lead Poisoning Prevention

In accordance with section 10(a)(2) of the Federal Advisory Committee Act (Pub. L. 92-463), the National Center for Environmental Health (NCEH) of the Centers for Disease Control and Prevention (CDC) announces the following committee meeting: Correction.

Name: Advisory Committee on Childhood Lead Poisoning Prevention (ACCLPP).

Summary: The Department of Health and Human Services, CDC published a document in the Federal Register of September 20, 2005, concerning the ACCLPP.

Correction: In the Federal Register of September 20, 2005, (Volume 70, Number 1811) [Notices] Page 55132 “Place: The Hubert Humphrey Federal Building, 200 Independence Avenue, Washington, DC 20021” Should read: 330 Independence Avenue, Room 5051, Snow Room Cohen Building, Washington, DC 20201. Telephone: 202-619-0814.

Contact Person For More Information: Claudine Johnson, Lead Poisoning Prevention Branch, Division of Emergency and Environmental Health Services, NCEH, CDC, 4770 Buford Hwy, NE., M/S F-40, Atlanta, Georgia 30341. Telephone: (770) 488-3300, fax: (770) 488-3635.

The Director, Management Analysis and Services Office, has been delegated the authority to sign Federal Register notices pertaining to announcements of meetings and other committee management activities for both CDC and the Agency for Toxic Substances and Disease Registry.

Dated: October 19, 2005.
Alvin Hall,
Director, Management Analysis and Services Office, Centers for Disease Control and Prevention.

[FR Doc. 05-21259 Filed 10-24-05; 8:45 am]

BILLING CODE 4163-18-P